ENVIRONMENTAL PROTECTION AGENCY

[FRL-8774-7]

Notice of Disclosure Pursuant To Court Order of Possible Confidential Business Information Obtained Under the Comprehensive Environmental Response, Compensation and Liability Act

AGENCY: Environmental Protection Agency (EPA).

ACTION: Notice of disclosure.

SUMMARY: EPA regulations provide that EPA may, in special circumstances, disclose business information, including confidential business information, “in any manner and to the extent ordered by a Federal Court.” See 40 CFR 2.209(d). EPA is currently engaged in litigation with the Potentially Responsible Parties (“PRPs”) in connection with the Modesto Groundwater Superfund Site (“Site”) in California (U.S. v. Lyon, et al., Case No. 07-CV-00491 LJO GSA). A Stipulation and Order Protecting Confidential Information, dated January 22, 2009, providing procedures for the release of confidential business information in that case, has been entered at the United States Federal District Court for the Eastern District of California (hereinafter “Court Order”). EPA intends to release to the PRPs and to third-party defendants documentation, including but not limited to documentation of EPA's past costs at the Site, which may contain confidential business information, pursuant to that Court Order.

DATES: Disclosures will be made no earlier than two weeks following the date that this Federal Register Notice is published.

Availability: A copy of the above-referenced Court Order will be provided to the public upon request.

FOR FURTHER INFORMATION CONTACT: Requests for copies of the Court Order and additional information should be directed to Laurie Williams, Assistant Regional Counsel, U.S. EPA, Region IX, 75 Hawthorne St., ORC-3, San Francisco, CA 94105; williams.laurie@epa.gov; phone: (415) 972-3867.

Notice of Disclosures Pursuant to Court Order

Pursuant to the Court Order, defendants and third-party defendants who receive documents that may contain CBI are required to follow specified procedures to maintain the confidentiality of such information. EPA hereby gives notice to the following parties that EPA intends to disclose information in EPA's possession that may be or may contain confidential business information, under the protection of the above-mentioned Court Order:

(1) Any and all contractors that were under contract to perform and/or did perform work at the Site, including but not limited to the contractors listed below and any subcontractor or temporary firm that performed work at or for the Site:

ACC Environmental Consultants, Inc.

Agriculture & Priority Pollutants Laboratories, Inc.

Air Toxics Ltd.

APPL, Inc.

Armstrong Data Services, Inc. (68-W5-0024)

ASRC Aerospace Corp. (68-W-01-002, 68-R9-0101)

Beylik Drilling, Inc.

Block Environmental Services, Inc.

Calgon Carbon Corp.

California Water Laboratories, Inc.

CH2M Hill, Inc.

Condor Earth Technologies, Inc.

Curtis & Tompkins Analytical Laboratories

Ecology and Environment, Inc.

Energy Laboratories, Inc.

FGL Environmental

Forward, Inc.

GeoAnalytical Laboratories, Inc.

Geological Technics, Inc.

GRB Environmental Services, Inc. (EP-R9-06-03)

ICF Kaiser Engineers, Inc.

ICF Technology, Inc.

JL Analytical, Inc.

Labat-Anderson, Inc. (68-W9-0052, 68-W4-0028)

Lockheed Idaho Technologies Co.

Lockheed Martin Environmental Services

McCain Environmental Services

Mid-Valley Engineering

Montgomery Watson Americas, Inc.

Montgomery Watson Harza

Montgomery Watson, Inc.

MPDS Services, Inc.

Osterburg Brothers Drillers

Pace Analytical Services, Inc.

PC Exploration, Inc.

Pratt-Navarro Architecture

PRC Environmental Management, Inc.

PRC Patterson Corp, Inc.

Radian Corp

R B Welty & Associates, Inc.

Recra Environmental Inc.

Southwest Laboratory of Oklahoma, Inc.

Standard Management Company

Thermo Nutech

Thompson-Hysell Engineers, Inc.

Trace Analysis Laboratory, Inc.

Truesdail Laboratories, Inc.

U.S. Ecology, Inc.

(2) Other business entities that have done business with the above-listed contractors and/or who may have been listed in conflict of interest disclosures.

(3) Unsuccessful offerors to any contracts for work at the Site.

Dated: February 10, 2009.
Keith Takata,
Director, Superfund Division, U.S. EPA Region IX.

[FR Doc. E9-4463 Filed 3-2-09; 8:45 am]

BILLING CODE 6560-50-P